DEPARTMENT OF COMMERCE

National Oceanic and Atmospheric Administration

DEPARTMENT OF THE INTERIOR

Fish and Wildlife Service

RIN 0648-XF79

Marine Mammals and Endangered Species; National Marine Fisheries Service File No. 932-1905; U.S. Fish and Wildlife Service File No. MA-009526

AGENCIES: National Marine Fisheries Service (NMFS), National Oceanic and Atmospheric Administration (NOAA), Commerce; Fish and Wildlife Service, Interior.

ACTION: Notice; issuance of permit.

SUMMARY: Notice is hereby given that the NMFS Marine Mammal Health and Stranding Response Program (MMHSRP), Silver Spring, MD (Dr. Teri Rowles, Principal Investigator), has been issued a permit to conduct enhancement and research activities on marine mammals.

ADDRESSES: The permit and related documents are available for review upon written request or by appointment in the following offices:

Permits, Conservation and Education Division, Office of Protected Resources, NMFS, 1315 East-West Highway, Room 13705, Silver Spring, MD 20910; phone (301) 713-2289; fax (301) 713-0376; and

U.S. Fish and Wildlife Service, Division of Management Authority, 4401 North Fairfax Drive, Room 212, Arlington, VA 22203 (1-800-358-2104).

FOR FURTHER INFORMATION CONTACT: Amy Sloan or Kristy Beard, NMFS Office of Protected Resources, (301) 713-2289.

SUPPLEMENTARY INFORMATION: The subject permit has been issued under the authority of the Marine Mammal Protection Act of 1972, as amended (MMPA; 16 U.S.C. 1361 et seq.); the regulations governing the taking and importing of marine mammals (50 CFR parts 18 and 216); the Endangered Species Act of 1973, as amended (16 U.S.C. 1531 et seq.); the regulations governing the taking, importing, and exporting of endangered and threatened species (50 CFR parts 17 and 222-226); and the Fur Seal Act of 1966, as amended (16 U.S.C. 1151 et seq.).

Permit No. 932-1905/MA-009526 authorizes the MMHSRP to: (1) Carry out response, rescue, rehabilitation, and release of threatened and endangered marine mammals under NMFS jurisdiction [Cetacea and Pinnipedia (excluding walrus)] under sections 109(h) and 112(c) and Title IV of the MMPA; and carry out such activities as enhancement under section 10 the ESA; (2) Conduct health-related scientific research studies on marine mammals and marine mammal parts under NMFS jurisdiction under section 104 of the MMPA and section 10 of the ESA; (3) Conduct Level B harassment on marine mammals under NMFS and U.S. Fish and Wildlife Service (USFWS) jurisdiction [West Indian manatee (Trichechus manatus), walrus (Odobenus rosmarus), polar bear (Ursus maritimus), and sea otters (Enhydra lutris)] incidental to all MMHSRP activities in the United States; (4) Collect, salvage, receive, possess, transfer, import, export, analyze, and curate marine mammal specimens under NMFS jurisdiction for purposes delineated in numbers (1) and (2) above; and (5) Salvage (from dead stranded animals), receive, possess, transfer, import, export, analyze, and curate marine mammal specimens under USFWS jurisdiction [including dugong and manatees (Sirenia), walrus, polar bear, marine otter (Lontra felina), sea otter] for purposes consistent with Title IV of the MMPA and section 10 of the ESA. The permit has been issued for a 5-year period.

The NMFS MMHSRP has prepared a Final Programmatic Environmental Impact Statement (FPEIS) in compliance with the National Environmental Policy Act of 1969 (42 U.S.C. 4321et seq.), which covers the entirety of the MMHSRP program's activities, including those covered by the issued permit. The FPEIS was published on March 6, 2009 (74 FR 9817). The ROD was signed on April 21, 2009. The FPEIS is available on the following web site: http://www.nmfs.noaa.gov/pr/health/eis.htm.

Issuance of this permit, as required by the ESA, was based on a finding that such permit: (1) Was applied for in good faith; (2) will not operate to the disadvantage of such endangered species; and (3) is consistent with the purposes and policies set forth in section 2 of the ESA.

Dated: July 10, 2009.
Tammy C. Adams,
Acting Chief, Permits, Conservation and Education Division, Office of Protected Resources, National Marine Fisheries Service.
Dated: July 10, 2009.
Timothy J. Van Norman,
Chief, Branch of Permits, Division of Management Authority, U.S. Fish and Wildlife Service.

[FR Doc. E9-17087 Filed 7-16-09; 8:45 am]

BILLING CODE 3510-22-S